DEPARTMENT OF TRANSPORTATION

Federal Aviation Administration

14 CFR Part 39

[Docket No. FAA-2019-0574; Product Identifier 2018-NM-150-AD; Amendment 39-19688; AD 2019-14-10]

RIN 2120-AA64

Airworthiness Directives; Airbus SAS Airplanes

AGENCY: Federal Aviation Administration (FAA), DOT.

ACTION: Final rule; request for comments.

SUMMARY: The FAA is superseding Airworthiness Directive (AD) 2018-02-11, which applies to certain Airbus SAS Model A330-301, -321, -322, and -342 airplanes. AD 2018-02-11 requires contacting the FAA to obtain instructions for addressing the unsafe condition on these products, and doing the actions specified in those instructions. Since the FAA issued AD 2018-02-11, the agency received a report of additional cracking found on different airplane models, and of an update to the fatigue and damage tolerance analysis. This AD requires repetitive detailed inspections of the horizontal stabilizer (HS) center box (CB) top skin integral flange area, and repair if necessary. This AD also expands the applicability to include additional airplane models. The FAA is issuing this AD to address the unsafe condition on these products.

DATES: This AD becomes effective August 23, 2019.

The Director of the Federal Register approved the incorporation by reference of a certain publication listed in this AD as of August 23, 2019.

The FAA must receive comments on this AD by September 23, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the material incorporated by reference (IBR) in this AD, contact the EASA, at Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2019-0574; or in person at Docket Operations between 9 a.m. and 5 p.m., Monday through Friday, except Federal holidays. The AD docket contains this AD, the regulatory evaluation, any comments received, and other information. The street address for Docket Operations is listed above. Comments will be available in the AD docket shortly after receipt.

FOR FURTHER INFORMATION CONTACT: Vladimir Ulyanov, Aerospace Engineer, International Section, Transport Standards Branch, FAA, 2200 South 216th St., Des Moines, WA 98198; telephone and fax 206-231-3229.

SUPPLEMENTARY INFORMATION:

Discussion

The FAA issued AD 2018-02-11, Amendment 39-19164 (83 FR 2894, January 22, 2018) (“AD 2018-02-11”), for certain Airbus SAS Model A330-301, -321, -322, and -342 airplanes. AD 2018-02-11 requires contacting the FAA to obtain instructions for addressing the unsafe condition on these products, and doing the actions specified in those instructions. AD 2018-02-11 resulted from a report of cracking in the top skin of the HS CB of an airplane in pre-modification 41330 configuration. The FAA issued AD 2018-02-11 to address cracking in the HS CB, which could lead to reduced structural integrity of the airplane.

Actions Since AD 2018-02-11 Was Issued

Since the FAA issued AD 2018-02-11, the FAA received a report of additional cracking found on different airplane models, and of an update to the fatigue and damage tolerance analysis. The FAA has determined that additional airplanes are subject to the unsafe condition.

The EASA, which is the Technical Agent for the Member States of the European Union, has issued EASA AD 2018-0226, dated October 22, 2018 (“EASA AD 2018-0226”) (also referred to as the Mandatory Continuing Airworthiness Information, or “the MCAI”), to correct an unsafe condition for certain Airbus SAS Model A330-223, -243, -301, -302, -321, -322, -323, -341, -342, and -343 airplanes; and Model A340-200 and -300 series airplanes. The MCAI states:

Cracks were found in the horizontal stabilizer (HS) centre box (CB) top skin of an A330 aeroplane in pre-mod 41330 configuration. The cracks were initiated at the upper flange corner at Rib 3 rear spar area on left hand side of the CB.

This condition, if not detected and corrected, could lead to reduced structural integrity of the HS CB of the aeroplane.

To address this unsafe condition, Airbus published SB [service bulletin] A330-55-3046 to provide inspection instructions for the affected area (see Appendix 1 of this [EASA] AD), only applicable to some pre-mod 41330 A330 MSN [manufacturer serial number]. Consequently, EASA issued AD 2017-0078 (which corresponds to FAA AD 2018-02-11) to require a one-time special detailed inspection (SDI) of the HS CB top skin integral flange area and, depending on findings, accomplishment of applicable corrective action(s).

Since that [EASA] AD was issued, new crack finding occurrences were reported on different aeroplanes. Based on the reported findings, and the updated fatigue and damage tolerance analysis, it is necessary to extend the inspection to all pre-mod 41330 aeroplanes as well as to a limited number of post-mod aeroplanes, and to introduce repetitive inspections for all affected aeroplanes. Consequently, Airbus published the applicable SB to provide instructions for repetitive inspections for the affected area.

For the reasons described above, this [EASA] AD retains the requirements of EASA AD 2017-0078, which is superseded, expands the Applicability to include A340 and additional A330 aeroplanes, and introduces repetitive inspections.

Explanation of Retained Requirements

Although this AD does not explicitly restate the requirements of AD 2018-02-11, this AD would retain requirements equivalent to those of AD 2018-02-11. Those requirements are referenced in EASA AD 2018-0226, which, in turn, is referenced in paragraph (g) of this AD.

Related IBR Material Under 1 CFR Part 51

EASA AD 2018-0226 describes procedures for repetitive special detailed inspections (SDI) of the HS CB top skin integral flange area and, repair if necessary. This material is reasonably available because the interested parties have access to it through their normal course of business or by the means identified in the ADDRESSES section.

FAA's Determination

This product has been approved by the aviation authority of another country, and is approved for operation in the United States. Pursuant to a bilateral agreement with the State of Design Authority, the FAA has been notified of the unsafe condition described in the MCAI referenced above. The FAA is issuing this AD because the agency evaluated all pertinent information and determined the unsafe condition exists and is likely to exist or develop on other products of the same type design.

Requirements of This AD

This AD requires accomplishing the actions specified in EASA AD 2018-0226 described previously, except for any differences identified as exceptions in the regulatory text of this AD. This AD also requires sending the inspection results to Airbus.

Explanation of Required Compliance Information

In the FAA's ongoing efforts to improve the efficiency of the AD process, the FAA worked with Airbus and EASA to develop a process to use certain EASA ADs as the primary source of information for compliance with requirements for corresponding FAA ADs. As a result, EASA AD 2018-0226 is incorporated by reference in the FAA final rule. This AD, therefore, requires compliance with the provisions specified in EASA AD 2018-0226, except for any differences identified as exceptions in the regulatory text of this AD. Service information specified in EASA AD 2018-0226 that is required for compliance with EASA AD 2018-0226 is available on the internet at http://www.regulations.gov by searching for and locating Docket No. FAA-2019-0574.

FAA's Justification and Determination of the Effective Date

Since there are currently no domestic operators of this product, notice and opportunity for public comment before issuing this AD are unnecessary. In addition, for the reasons stated above, the FAA finds that good cause exists for making this amendment effective in less than 30 days.

Comments Invited

This AD is a final rule that involves requirements affecting flight safety, and the FAA did not precede it by notice and opportunity for public comment. The FAA invites you to send any written relevant data, views, or arguments about this AD. Send your comments to an address listed under the ADDRESSES section. Include “Docket No. FAA-2019-0574; Product Identifier 2018-NM-150-AD” at the beginning of your comments. The FAA specifically invites comments on the overall regulatory, economic, environmental, and energy aspects of this AD. The FAA will consider all comments received by the closing date and may amend this AD based on those comments.

The FAA will post all comments received, without change, to http://www.regulations.gov, including any personal information you provide. The FAA will also post a report summarizing each substantive verbal contact received about this AD.

Costs of Compliance

Currently, there are no affected U.S.-registered airplanes. If an affected airplane is imported and placed on the U.S. Register in the future, the following are cost estimates to comply with this AD:

Estimated Costs for Required Actions
Labor cost | Parts cost | Cost per product
1 work-hour × $85 per hour = $85 | $0 | $85 per inspection.

The FAA estimates that it would take about 1 work-hour per product to comply with the on-condition reporting requirement in this AD. The average labor rate is $85 per hour. Based on these figures, the FAA estimates the cost of reporting the inspection results on U.S. operators to be $85 per product.

The FAA has received no definitive data that would enable the agency to provide cost estimates for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Will not affect intrastate aviation in Alaska; and

3. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-02-11, Amendment 39-19164 (83 FR 2894, January 22, 2018), and adding the following new AD:

2019-14-10 Airbus SAS: Amendment 39-19688; Docket No. FAA-2019-0574; Product Identifier 2018-NM-150-AD.

(a) Effective Date

This AD becomes effective August 23, 2019.

(b) Affected ADs

This AD replaces AD 2018-02-11, Amendment 39-19164 (83 FR 2894, January 22, 2018) (“AD 2018-02-11”).

(c) Applicability

This AD applies to Airbus SAS Model A330-223, -243, -301, -302, -321, -322, -323, -341, -342, and -343 airplanes; and Model A340-211, -212, -213, -311, -312, and -313 airplanes; certificated in any category; as identified in European Aviation Safety Agency (EASA) AD 2018-0226, dated October 22, 2018 (“EASA AD 2018-0226”).

(d) Subject

Air Transport Association (ATA) of America Code 55, Stabilizers.

(e) Reason

This AD was prompted by a report of cracking in the top skin of the horizontal stabilizer (HS) center box (CB) of an airplane in pre-modification 41330 configuration. This AD was also prompted by report of additional cracking found on different airplanes, and of an update to the fatigue and damage tolerance analysis. The FAA is issuing this AD to address cracking in the horizontal stabilizer center box, which could lead to reduced structural integrity of the airplane.

(f) Compliance

Comply with this AD within the compliance times specified, unless already done.

(g) Requirements

Except as specified in paragraph (h) of this AD: Comply with all required actions and compliance times specified in, and in accordance with, EASA AD 2018-0226.

(h) Exceptions to EASA AD 2018-0226

(1) For purposes of determining compliance with the requirements of this AD: Where EASA AD 2018-0226 refers to its effective date, this AD requires using the effective date of this AD.

(2) Where EASA AD 2018-0226 refers to a compliance time of after May 17, 2017, this AD requires using February 6, 2018 (the effective date of AD 2018-02-11).

(3) The “Remarks” section of EASA AD 2018-0226 does not apply to this AD.

(4) Paragraphs (5) and (6) of EASA AD 2018-0226 specify to report “no discrepancy” inspection results to Airbus at certain times. For this AD, report inspection results at the applicable time specified in paragraph (h)(4)(i) or (h)(4)(ii) of this AD.

(i) If the inspection was done on or after the effective date of this AD: Submit the report within 30 days after the inspection.

(ii) If the inspection was done before the effective date of this AD: Submit the report within 30 days after the effective date of this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0226 that contains RC procedures and tests: Except as required by paragraph (h)(4) and (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(j) Related Information

For more information about this AD, contact Vladimir Ulyanov, Aerospace Engineer, International Section, Transport Standards Branch, FAA, 2200 South 216th St., Des Moines, WA 98198; telephone and fax 206-231-3229.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2018-0226, dated October 22, 2018.

(ii) [Reserved]

(3) For EASA AD 2018-0226, contact EASA, Konrad-Adenauer-Ufer 3, 50668 Cologne, Germany; telephone +49 221 89990 6017; email ADs@easa.europa.eu; internet www.easa.europa.eu. You may find this EASA AD on the EASA website at https://ad.easa.europa.eu.

(4) You may view this EASA AD at the FAA, Transport Standards Branch, 2200 South 216th St., Des Moines, WA. For information on the availability of this material at the FAA, call 206-231-3195. EASA AD 2018-0226 may be found in the AD docket on the internet at http://www.regulations.gov by searching for and locating Docket No. FAA-2019-0574.

(5) You may view this material that is incorporated by reference at the National Archives and Records Administration (NARA). For information on the availability of this material at NARA, call 202-741-6030, or go to: http://www.archives.gov/federal-register/cfr/ibr-locations.html.

Issued in Des Moines, Washington, on July 23, 2019.
Dionne Palermo,
Acting Director, System Oversight Division, Aircraft Certification Service.

[FR Doc. 2019-16812 Filed 8-7-19; 8:45 am]

BILLING CODE 4910-13-P